DEPARTMENT OF HEALTH AND HUMAN SERVICES

Privacy Act of 1974; Matching Program

AGENCY: Administration for Children and Families, Department of Health and Human Services.

ACTION: Notice of a new matching program.

SUMMARY: In accordance with subsection (e)(12) of the Privacy Act of 1974, as amended, the Department of Health and Human Services, Administration for Children and Families, Office of Child Support Enforcement (HHS/ACF/OCSE), is providing notice of a re-established matching program between OCSE and state agencies administering Temporary Assistance for Needy Families (TANF). The matching program will compare state TANF agency records with new hire, quarterly wage, and unemployment insurance information from OCSE's National Directory of New Hires (NDNH) system of records. The matching program will assist state TANF agencies in establishing or verifying eligibility for assistance, reducing payment errors, and maintaining program integrity.

DATES: The deadline for comments on this notice is January 22, 2018. The re-established matching program will commence not sooner than 30 days after publication of this notice, provided no comments are received that warrant a change to this notice.

The matching program will be conducted for an initial term of 18 months (approximately January 13, 2018 through July 13, 2019) and within 3 months of expiration may be renewed for up to 12 additional months if the parties make no change to the matching program and certify that the program has been conducted in compliance with the matching agreement.

ADDRESSES: Interested parties may submit written comments on this notice, by mail or email, to Linda Boyer, Director, Division of Federal Systems, Office of Child Support Enforcement, Administration for Children and Families, by email at linda.boyer@acf.hhs.gov, or by mail at Mary E. Switzer Building, 330 C Street SW, 5th Floor, Washington, DC 20201. Comments received will be available for public inspection at this address from 9:00 a.m. to 5:00 p.m. ET, Monday through Friday.

FOR FURTHER INFORMATION CONTACT: General questions about the matching program may be submitted to Linda Boyer, Director, Division of Federal Systems, Office of Child Support Enforcement, Administration for Children and Families, by email at linda.boyer@acf.hhs.gov, by mail at Mary E. Switzer Building, 330 C Street SW, 5th Floor, Washington, DC 20201, or by telephone at 202-401-5410.

SUPPLEMENTARY INFORMATION: The Privacy Act of 1974, as amended (5 U.S.C. 552a), provides for certain protections for individuals applying for and receiving federal benefits. The law governs the use of computer matching by federal agencies when records in a system of records (meaning, records about individual retrieved by personal identifier) are matched with other federal or state agency records. The Privacy Act requires agencies involved in a matching program to:

1. Enter into a written agreement, which must be prepared in accordance with the Privacy Act, approved by the Data Integrity Board of each participating federal agency, provided to Congress and the Office of Management and Budget (OMB), and made available to the public, as required by 5 U.S.C. 552a(o), (u)(3)(A), and (u)(4).

2. Notify the individuals whose information will be used in the matching program that the information they provide is subject to verification through matching, as required by 5 U.S.C. 552a(o)(1)(D).

3. Verify match findings before suspending, terminating, reducing, or making a final denial of an individual's benefits or payments or taking other adverse action against the individual, as required by 5 U.S.C. 552a(p).

4. Report the matching program to Congress and the OMB, in advance and annually, as required by 5 U.S.C. 552a(o) (2)(A)(i), (r), and (u)(3)(D).

5. Publish advance notice of the matching program in the Federal Register as required by 5 U.S.C. 552a(e)(12).

This matching program meets these requirements.

Participating Agencies: Office of Child Support Enforcement (OCSE) is the source agency, and state agencies administering the Temporary Assistance for Needy Families (TANF) program are the recipient agencies.

Authority for Conducting the Matching Program: 42 U.S.C. 653(j)(3).

Purpose(s): The matching program provides each participating state agency with new hire, quarterly wage, and unemployment insurance information from OCSE's National Directory of New Hires (NDNH) system of records, pertaining to adult TANF applicants and recipients, resulting from comparing client Social Security numbers in the state agency's files to data in NDNH. The match results assist the state agencies in establishing or verifying clients' eligibility for assistance, reducing payment errors, and maintaining program integrity, including determining whether duplicate participation exists or if the client resides in another state. The state agencies may also use the NDNH information for the secondary purposes of updating the applicants' and recipients' reported participation in work activities and updating applicant, recipient, and employer contact information maintained by the state TANF agencies.

Categories of Individuals: The categories of individuals whose information is involved in the matching program are adult members of households who receive or have applied for TANF benefits.

Categories of Records: The categories of records involved in the matching program are new hire, quarterly wage, and unemployment insurance information. The specific data elements that will be provided to OCSE in a state TANF agency input file are:

• Submitting state code (2-digit FIPS code)

• Date stamp (input file transmission date)

• Adult TANF applicant/recipient's Social Security number

• Adult TANF applicant/recipient's first, middle, and last name

• Same state data indicator (indicates whether the state TANF agency requests NDNH new hire, quarterly wage, or unemployment insurance even if the information was provided by that same state)

• Passback data (state TANF agency information used to identify individuals within the input file to be returned on the output file)

• Name/Social Security number verification request

OCSE will compare the Social Security numbers in the state TANF agency input file to the Social Security numbers in the NDNH, and will provide the state TANF agency with any available new hire and quarterly wage information in NDNH (including names, Social Security numbers, home addresses, and employment information) pertaining to the individuals whose records are contained in the state TANF agency input file.

System(s) of Records: The OCSE records disclosed to state TANF agencies will be disclosed from OCSE's National Directory of New Hires (NDNH) system of records, No. 09-80-0381, last published at 80 FR 17906 on April 2, 2015. The disclosures are authorized by routine use 8 in that system of records.

Scott M. Lekan,
Commissioner, Office of Child Support Enforcement.

[FR Doc. 2017-27487 Filed 12-20-17; 8:45 am]

BILLING CODE 4184-42-P